DEPARTMENT OF COMMERCE

Foreign-Trade Zones Board

[S-101-2022]

Approval of Expansion of Subzone 68A, Expeditors International of Washington, Inc., El Paso, Texas

On June 22, 2022, the Executive Secretary of the Foreign-Trade Zones (FTZ) Board docketed an application submitted by the City of El Paso, grantee of FTZ 68, requesting expanded subzone status subject to the existing activation limit of FTZ 68, on behalf of Expeditors International of Washington, Inc., in El Paso, Texas.

The application was processed in accordance with the FTZ Act and Regulations, including notice in the Federal Register inviting public comment (87 FR 38373-38374, June 28, 2022). The FTZ staff examiner reviewed the application and determined that it meets the criteria for approval.

Pursuant to the authority delegated to the FTZ Board Executive Secretary (15 CFR 400.36(f)), the application to expand Subzone 68A was approved on August 10, 2022, subject to the FTZ Act and the Board's regulations, including Section 400.13, and further subject to FTZ 68's 2,000-acre activation limit.

Dated: August 10, 2022.
Andrew McGilvray,
Executive Secretary.

[FR Doc. 2022-17536 Filed 8-15-22; 8:45 am]

BILLING CODE 3510-DS-P